DEPARTMENT OF COMMERCE

International Trade Administration

[Application No. 10-4A001]

Export Trade Certificate of Review

ACTION: Notice of issuance of an amended Export Trade Certificate of Review to Alaska Longline Cod Commission (“ALCC”), Application No. 10-4A001.

SUMMARY: The Secretary of Commerce, through the Office of Trade and Economic Analysis (“OTEA”), issued an amended Export Trade Certificate of Review to ALCC on November 7, 2018.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2018). OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

ALCC's Export Trade Certificate of Review has been amended to:

1. Add the following companies as new Members of the Certificate within the meaning of section 325.2(l) of the Regulations (15 CFR 325.2(l)):

a. Alaskan Leader Vessel LLC, Lynden, WA

b. Bristol Leader Fisheries LLC, Lynden, WA

c. Bering Leader Fisheries LLC, Lynden, WA

d. Northern Leader Fisheries LLC, Lynden, WA

e. Prowler Fisheries, LLC, Seattle, WA

2. Delete the following companies as Members of the Certificate:

a. Pathfinder Fisheries LLC, Seattle, WA

b. Bering Select Seafoods Company, Seattle, WA

c. Glacier Bay Fisheries LLC

3. Change/correct the name or location of the following Members of the Certificate:

a. Alaskan Leader Fisheries, Inc., Lynden, WA changes to Alaskan Leader Fisheries LLC, Lynden, WA

b. Coastal Villages Longline, LLC changes to Coastal Villages Longline LLC, Anchorage, AK

c. Romanzoff Fishing Company, Seattle, WA changes to Romanzof Fishing Company, L.L.C., Seattle, WA

d. Tatoosh Seafoods LLC, Seattle, WA changes to Tatoosh Seafoods, LLC, Edmonds, WA

e. Beauty Bay Washington, LLC, Seattle, WA changes to Beauty Bay Washington, LLC, Edmonds, WA

f. Blue North Fisheries, Inc, Seattle, WA changes to Blue North Fisheries, Inc., Seattle, WA

g. Clipper Group, Ltd, Seattle, WA changes to Clipper Group, Ltd., Seattle, WA

h. Liberator Fisheries, LLC, Seattle, WA changes to Liberator Fisheries LLC, Seattle, WA

i. Siberian Sea Fisheries, LLC, Seattle, WA changes to Siberian Sea Fisheries LLC, Seattle, WA

ALCC's Membership, as amended, is below: Alaskan Leader Fisheries LLC, Lynden, Washington; Alaskan Leader Seafoods LLC, Lynden, Washington; Alaskan Leader Vessel LLC, Lynden, Washington; Bristol Leader Fisheries LLC, Lynden, Washington; Bering Leader Fisheries LLC, Lynden, Washington; Northern Leader Fisheries LLC, Lynden, Washington; Gulf Mist, Inc., Everett, Washington; Deep Sea Fisheries, Inc., Everett, Washington; Aleutian Spray Fisheries, Inc., Seattle, Washington; Liberator Fisheries LLC, Seattle, Washington; Siberian Sea Fisheries LLC, Seattle, Washington; Akulurak LLC, Seattle, Washington; Romanzof Fishing Company, L.L.C., Seattle, Washington; Beauty Bay Washington, LLC, Edmonds, Washington; Tatoosh Seafoods, LLC, Edmonds, Washington; Blue North Fisheries, Inc., Seattle, Washington; Blue North Trading Company, LLC, Seattle, Washington; Clipper Group, Ltd., Seattle, Washington; Clipper Seafoods, Ltd., Seattle, Washington (a wholly-owned subsidiary of Clipper Group, Ltd.); Shelford's Boat, Ltd., Mill Creek, Washington; Siu Alaska Corporation, Anchorage, Alaska; Coastal Villages Longline LLC, Anchorage, Alaska; and Prowler Fisheries, LLC, Seattle, Washington.

The effective date of the amended Certificate is August 9, 2018, the date on which ALCC's application to amend was deemed submitted.

Dated: November 8, 2018.
Joseph Flynn,
Director, Office of Trade and Economic Analysis, International Trade Administration, U.S. Department of Commerce.

[FR Doc. 2018-24947 Filed 11-14-18; 8:45 am]

BILLING CODE 3510-DR-P